DEPARTMENT OF TRANSPORTATION

Federal Aviation Administration

RTCA Special Committee 194: Air Traffic Management (ATM) Data Link Implementation

AGENCY: Federal Aviation Administration (FAA), DOT.

ACTION: Notice of RTCA Special Committee 194 meeting.

SUMMARY: The FAA is issuing this notice to advise the public of a meeting of RTCA Special Committee 194: Air Traffic and Management (ATM) Data Link Implementation.

DATES: The meeting will be held June 10, 2003, starting from 9-5 p.m.

ADDRESSES: The meeting will be held at RTCA, Inc., 1828 L Street, NW., Suite 805, Washington, DC 20036.

FOR FURTHER INFORMATION CONTACT: RTCA Secretariat, 1828 L Street, NW, Washington, DC 20036; telephone (202) 833-9339; fax (202) 833-9434; Web site http://www.rtca.org.

SUPPLEMENTARY INFORMATION: Pursuant to section 10(a)(2) of the Federal Advisory Committee Act (Pub. L. 92-463, 5 U.S.C. appendix 2), notice is hereby given for a Special Committee 194 meeting. The agenda will include:

• June 10:

• Opening Plenary Session (Welcome and Introductory Remarks, Review Agenda, Review/Approve Minutes of Previous Meeting, Working Group Reports)

• Status of Controller-Pilot Data Link Communication (CPDLC) Program

• Working Group (WG) Reports and Discussion

• WG-1, Plans and Principles document final status

• WG-3, Issues and status of proposed Human Factors document and Build II

• WG-4, Issues and status of draft DO-Connect

• SC- 194 Terms of Reference Discussion

• Other Business

• Closing Plenary Session (Review Agenda, Working Group Reports, Other Business, Date and Place of Next Meeting)

• Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 6, 2003.
Normal T. Fujisaki,
Deputy Director, System Architecture and Investment Analysis.

[FR Doc. 03-12380 Filed 5-16-03; 8:45 am]

BILLING CODE 4910-13-M